NUCLEAR REGULATORY COMMISSION

Sunshine Act Meeting

AGENCY HOLDING THE MEETING: Nuclear Regulatory Commission.

DATE: Weeks of March 1, 8, 15, 22, 29, April 5, 2004.

PLACE: Commissioners' Conference Room, 11555 Rockville Pike, Rockville, Maryland.

STATUS: Public and Closed.

MATTERS TO BE CONSIDERED:

Week of March 1, 2004

Tuesday, March 2, 2004

9:30 a.m. Meeting with Advisory Committee on the Medical Uses of Isotopes, (ACMUI) and NRC Staff (Public Meeting) (Contact: Angela Williamson, 301-415-5030).

This meeting will be webcast live at the Web address— www.nrc.gov.

Wednesday, March 3, 2004

9:30 a.m. 25th Anniversary Three Mile Island (TMI) Unit 2 Accident Presentation (Public Meeting) (Location: TWFN Auditorium, 11545 Rockville Pike) (Contact: Sam Walker, 301-415-1965).

This meeting will be webcast live at the Web address— www.nrc.gov.

2:45 p.m. Discussion of Security Issues (Closed—Ex. 1).

Thursday, March 4, 2004

1:30 p.m. Briefing on Status of Office of Nuclear Material Safety and Safeguards (NMSS) Programs, Performance, and Plans—Waste Safety (Public Meeting) (Contact: Claudia Seelig, 301-415-7243).

This meeting will be webcast live at the Web address— www.nrc.gov.

Week of March 8, 2004—Tentative

Tuesday, March 9, 2004

9:30 a.m. Briefing on Status of Office of Nuclear Material Safety and Safeguards (NMSS) Programs, Performance, and Plans—Material Safety (Public Meeting) (Contact: Claudia Seelig, 301-415-7243).

This meeting will be webcast live at the Web address— www.nrc.gov.

1:30 p.m. Discussion of Security Issues (Closed—Ex. 1).

Week of March 15, 2004—Tentative

There are no meetings scheduled for the Week of March 15, 2004.

Week of March 22, 2004—Tentative

Tuesday, March 23, 2004

9:30 a.m. Briefing on Status of Office of Nuclear Regulatory Research (RES), Programs, Performance, and Plans (Public Meeting) (Contact: Alan Levin, 301-415-6656).

This meeting will be webcast live at the Web address— www.nrc.gov.

1:30 p.m. Briefing on Status of Office of Nuclear Security and Incident Response (NSIR) Programs, Performance, and Plans (Public Meeting) (Contact: Jack Davis, 301-415-7256).

This meeting will be webcast live at the Web address— www.nrc.gov.

2:30 p.m Discussion of Security Issues (Closed—Ex. 1).

Wednesday, March 24, 2004

9:30 a.m. Briefing on Status of Office of Nuclear Reactor Regulation (NRR), Programs, Performance, and Plans (Public Meeting) (Contact: Mike Case, 301-415-1275).

This meeting will be webcast live at the Web address— www.nrc.gov.

Week of March 29, 2004—Tentative

There are no meetings scheduled for the Week of March 29, 2004.

Week of April 5, 2004—Tentative

There are no meetings scheduled for the Week of April 5, 2004.

The schedule for Commission meetings is subject to change on short notice. To verify the status of meetings call (recording)—(301) 415-1292. Contact person for more information: Dave Gamberoni, (301) 415-1651.

* * * * *

The NRC Commission Meeting Schedule can be found on the Internet at www.nrc.gov/what-we-do/policy-making/schedule.html

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: February 26, 2004.
Dave Gamberoni,
Office of the Secretary.

[FR Doc. 04-4670 Filed 2-27-04; 9:40 am]

BILLING CODE 7590-01-M